INTERNATIONAL TRADE COMMISSION

[Investigations Nos. 701-TA-402 and 731-TA-892-893 (Final)]

Honey From Argentina and China

AGENCY: International Trade Commission.

ACTION: Revised schedule for the subject investigations.

EFFECTIVE DATE: August 13, 2001.

FOR FURTHER INFORMATION CONTACT: Olympia DeRosa Hand (202-205-3182), Office of Investigations, U.S. International Trade Commission, 500 E Street SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (http://www.usitc.gov). The public record for this investigation may be viewed on the Commission's electronic docket (EDIS-ON-LINE) at http://dockets.usitc.gov/eol/public.

SUPPLEMENTARY INFORMATION: On June 13, 2001, the Commission established a schedule for the conduct of the final phase of the subject investigations (66 FR 31948, June 13, 2001). Subsequently, the Commission has found it necessary to change the date of the public hearing. The Commission, therefore, is revising its schedule in these investigations.

The Commission's new schedule for the investigations is as follows: requests to appear at the hearing must be filed with the Secretary to the Commission not later than September 21, 2001; the prehearing conference will be held at the U.S. International Trade Commission Building at 9:30 a.m. on September 24, 2001; the prehearing staff report will be placed in the nonpublic record on September 20, 2001; the deadline for filing prehearing briefs is September 27, 2001; the hearing will be held at the U.S. International Trade Commission Building at 9:30 a.m. on October 3, 2001; the deadline for filing posthearing briefs is October 11, 2001; the Commission will make its final release of information on October 31, 2001; and final party comments are due on November 2, 2001.

For further information concerning these investigations see the Commission's notice cited above and the Commission's Rules of Practice and Procedure, part 201, subparts A through E (19 CFR part 201), and part 207, subparts A and C (19 CFR part 207).

Authority: These investigations are being conducted under authority of title VII of the Tariff Act of 1930; this notice is published pursuant to section 207.21 of the Commission's rules.

Issued: August 14, 2001.
By order of the Commission.
Donna R. Koehnke,
Secretary.

[FR Doc. 01-21107 Filed 8-21-01; 8:45 am]

BILLING CODE 7020-02-P